DEPARTMENT OF AGRICULTURE

Grain Inspection, Packers and Stockyards Administration

9 CFR Part 201

Scales; Accurate Weights, Repairs, Adjustments or Replacements After Inspection

AGENCY: Grain Inspection, Packers and Stockyards Administration, USDA.

ACTION: Direct final rule; correction.

SUMMARY: The Grain Inspection, Packers and Stockyards Administration is correcting a direct final rule that appeared in the Federal Register on April 29, 2014 (FR Doc. 2014-9655). The direct final rule required all scales used to weigh livestock, livestock carcasses, live poultry, or feed meet requirements contained in section 5.59, Electronic Livestock, Meat, and Poultry Evaluation Systems and/or Devices of the National Institute of Standards and Technology, Specifications, Tolerances, and other Technical Requirements for Weighing and Measuring Devices (NIST Handbook 44) 2013 edition. The NIST Handbook 44 includes additional requirements for scales used to weigh live animals, livestock and poultry carcasses, which should not have been excluded by this rule. The direct final rule should have incorporated, by reference, all of the General Code, Scales Code, and Weight Code from the 2013 edition of the NIST Handbook 44. Additionally, the direct final rule must reflect the change to the heading of § 201.71, as a result of NIST Handbook 44 requirements for electronic devices and systems and the correct email address for the National Conference for Weights and Measures.

DATES: This correction is effective June 30, 2014. The incorporation by reference of certain publications listed in the rule is approved by the Director of the Federal Register as of June 30, 2014.

FOR FURTHER INFORMATION CONTACT: S. Brett Offutt, Director, Policy and Litigation Division by Email at s.brett.offutt@usda.gov, or by telephone at (202) 720-7363.

SUPPLEMENTARY INFORMATION: In FR Doc. 2014-9655 appearing on page 23892 in the Federal Register of Tuesday, April 29, 2014, the following corrections are made:

§ 201.71 [Corrected]

1. On page 23893, in the first column, in Part 201—Regulations Under the Packers and Stockyards Act, the section heading “§ 201.7 1 Scales; accurate weights, repairs, adjustments or replacements after inspection” is corrected to read “§ 201.71 Scales and or Electronic Evaluation Devices or Systems; accurate weights and measures, repairs, adjustments or replacements after inspection.”

2. On page 23893, in the first column, in Part 201—Regulations Under the Packers and Stockyards Act, Section 201.71, in paragraph (a), “All scales used by stockyard owners, swine contractors, market agencies, dealers, packers and live poultry dealers to weigh livestock, livestock carcasses, live poultry, or feed for the purposes of purchase, sale, acquisition, payment, or settlement shall be installed, maintained, and operated to ensure accurate weights. Such scales shall meet applicable requirements contained in section 5.59, Electronic Livestock, Meat, and Poultry Evaluation Systems and/or Devices, pages 5-85 and 5-86 of the “U.S. Department of Commerce, National Institute of Standards and Technology, Specifications, Tolerances, and other Technical Requirements for Weighing and Measuring Devices (NIST Handbook 44), 2013 edition” which is hereby incorporated by reference. This incorporation by reference was approved by the Director of the Federal Register in accordance with 5 U.S.C. 552(a) and 1 CFR part 51” is corrected to read “(a) All scales used by stockyard owners, swine contractors, market agencies, dealers, packers, and live poultry dealers to weigh livestock, livestock carcasses, live poultry, or feed for the purposes of purchase, sale, acquisition, payment, or settlement shall be installed, maintained, and operated to ensure accurate weights. All electronic evaluation devices or systems for measuring the composition or quality constituents of live animals, livestock and poultry carcasses, and individual cuts of meat or a combination thereof for the purpose of determining value shall be installed, maintained, and operated to ensure accuracy. Such scales or electronic evaluation devices or systems shall meet applicable requirements contained in the General Code, Scales Code, Weights Code, and Electronic Livestock, Meat, and Poultry Evaluation Systems and/or Devices Code of the NIST Handbook 44. The 2013 edition of the National Institute of Standards and Technology (NIST) Handbook 44, “Specifications, Tolerances, and Other Technical Requirements for Weighing and Measuring Devices” is hereby incorporated by reference and was approved by the Director of the Federal Register in accordance with 5 U.S.C. 552(a) and 1 CFR part 51”

3. On page 23893, in the second column, in paragraph (a), the National Conference of Weights and Measures (NCWM) email address of “nfo@ncwm.net” is corrected to read “info@ncwm.net.”

Dated: June 3, 2014.
Larry Mitchell,
Administrator, Grain Inspection, Packers and Stockyards Administration.

[FR Doc. 2014-13218 Filed 6-6-14; 8:45 am]

BILLING CODE P